DEPARTMENT OF HOMELAND SECURITY

Coast Guard

33 CFR Part 117

[Docket No. USCG-2013-0149]

Drawbridge Operation Regulations; Inner Harbor Navigation Canal, New Orleans, LA

AGENCY: Coast Guard, DHS.

ACTION: Notice of deviation from drawbridge regulation.

SUMMARY: The Coast Guard has issued a temporary deviation from the regulation governing the operation of the Senator Ted Hickey (Leon C. Simon) bascule bridge across the Inner Harbor Navigation Canal, mile 4.6, at New Orleans, Louisiana. This deviation is necessary to ensure the safety of pedestrians as they run across the bridge for the Ochsner Ironman 70.3 New Orleans event. This deviation allows the bridge to remain in the closed-to-navigation position continuously during the event.

DATES: This deviation is effective from 8:30 a.m. until 3 p.m. on Sunday, April 21, 2013.

ADDRESSES: The docket for this deviation, [USCG-2013-0149] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Donna Gagliano, Bridge Administration Branch, Coast Guard, telephone (504) 671-2128, email Donna.Gagliano@uscg.mil. If you have questions on viewing the docket, call Barbara Hairston, Program Manager, Docket Operations, telephone 202-366-9826.

SUPPLEMENTARY INFORMATION: The bridge owner approved the request for the closure of the Senator Ted Hickey (Leon C. Simon) Bascule Bridge on Seabrook Highway crossing the Inner Harbor Navigation Canal, mile 4.6, in New Orleans, Louisiana. The bridge provides 45 feet in the closed-to-navigation position above mean sea level. Currently, according to 33 CFR 117.458 (c), the draw of the Leon C. Simon Blvd. (Seabrook) bridge, mile 4.6, shall open on signal; except that, from 7 a.m. to 8:30 a.m. and 5 p.m. to 6:30 p.m. Monday through Friday, the draw need not be opened. This deviation allows the draw span of the bridge to remain closed to navigation from 8:30 a.m. until 3 p.m. on Sunday, April 21, 2013, while the Ironman contenders travel across the bridge as part of the race course. Navigation on the waterway consists mainly of tugs with tows. As a result of coordination between the Coast Guard and the waterway users, it has been determined that this closure will not have a significant effect on these vessels. The Coast Guard will inform users through the Local and Broadcast Notice to Mariners of the closure period. There is an alternate route available via The Rigolets Pass to vessel traffic. Vessels that can pass under the bridge in the closed-to-navigation position can do so at any time. The bridge will not be able to open for emergencies.

In accordance with 33 CFR 117.35(e), the drawbridge must return to its regular operating schedule immediately at the end of the designated time period. This deviation from the operating regulations is authorized under 33 CFR 117.35.

Dated: March 15, 2013.
David M. Frank,
Bridge Administrator.

[FR Doc. 2013-06983 Filed 3-26-13; 8:45 am]

BILLING CODE 9110-04-P